DEPARTMENT OF JUSTICE

Notice of Lodging of Consent Decree Under the Comprehensive Environmental Response, Compensation, and Liability Act

In accordance with 28 CFR 50.7 and Section 122 of the Comprehensive Environmental Response, Compsenation and Liability Act (“CERCLA”), 42 U.S.C. 9622, notice is hereby given that on April 23, 2001, a proposed consent decree in United States v. General Motors Corp., Civil Action NO. 01-CV-0589, was lodged with the United States District Court for the Northern District of New York.

In this action the United States sought costs for response activities in connection with the aluminum diecasting facility owned by General Motors Corp. in Massena, New York. The Complaint alleges that the defendant is liable under Section 107(a), 42 U.S.C. 9607(a), of CERCLA. Pursuant to the decree, defendant will pay to the United States past unreimbursed response costs in an amount totaling at least $1,245,832.73, plus interest.

The Department of Justice will receive for a period of thirty (30) days from the date of this publication comments relating to the proposed decree. Comments should be addressed to the Assistant Attorney General, Environment and Natural Resources Division, P.O. Box 7611, U.S. Department of Justice, Washington, DC 20044-7611, and should refer to United States v. Alcoa, Inc., D.J. Ref. 90-11-3-558A.

The proposed consent decree may be examined at the Office of the United States Attorney, Northern District of New York, James T. Foley Federal Building, 445 Broadway, Albany, New York, 12207 and at U.S. EPA, (Region II) 290 Broadway, 17th Floor New York, New York 10007-1866. A copy of the proposed consent decree may also be obtained by mail from the Consent Decree Library, P.O. Box 7611, U.S. Department of Justice, Washington, DC 20044-7611. In requesting a copy, please enclose a check in the amount of $6.00 (25 cents per page reproduction cost) payable to the Consent Decree Library.

Ronald Gluck,
Assistant Section Chief, Environmental Enforcement Section, Environment and Natural Resources Division.

[FR Doc. 01-11125 Filed 5-2-01; 8:45 am]

BILLING CODE 4410-15-M